DEPARTMENT OF COMMERCE

International Trade Administration

The President's Export Council: Meeting of the President's Export Council

AGENCY: International Trade Administration, U.S. Department of Commerce.

ACTION: Notice of a Meeting via Teleconference.

SUMMARY: The President's Export Council will hold a meeting via teleconference to deliberate draft letters of recommendation and their draft final report to the President.

DATES: June 25, 2008.

Time: 2:30 p.m. (EDST).

For the Conference Call-In Number and Further Information, Contact: The President's Export Council Executive Secretariat, Room 4043, Washington, DC 20230 (Phone: 202-482-1124), or visit the PEC Web site, http://www.ita.doc.gov/td/pec.

Caroline Swann,
Director, Office of Advisory Committees.

[FR Doc. E8-12165 Filed 5-30-08; 8:45 am]

BILLING CODE 3510-DR-P